DEPARTMENT OF TRANSPORTATION

Federal Aviation Administration

[Docket No. FAA-2025-0493]

Agency Information Collection Activities: Requests for Comments; Clearance of Renewed Approval of Information Collection: Hazardous Materials Training Requirements

AGENCY: Federal Aviation Administration (FAA), DOT.

ACTION: Notice and request for comments.

SUMMARY: In accordance with the Paperwork Reduction Act of 1995, the FAA invites public comments about our intention to request the Office of Management and Budget (OMB) approval to renew an information collection. The collection involves the FAA's certification process and requirements for certificate holders and repair stations related to hazardous materials acceptance, handling, and transportation.

DATES: Written comments should be submitted by August 18, 2025.

ADDRESSES: Please send written comments:

By Electronic Docket: www.regulations.gov (Enter docket number into search field).

By mail: Shelby Geller, Security and Hazardous Materials Safety, Office of Hazardous Materials Safety (AXH-520), Federal Aviation Administration, 800 Independence Avenue SW, Room 300 East, Washington, DC 20591.

By fax: 202-267-8496.

FOR FURTHER INFORMATION CONTACT: Shelby Geller by email at: hazmatinfo@faa.gov; phone: 405-954-0088.

SUPPLEMENTARY INFORMATION:

Public Comments Invited: You are asked to comment on any aspect of these information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of these information collections.

OMB Control Number: 2120-0705.

Title: Hazardous Materials Training Requirements.

Form Numbers: No FAA forms are associated with this information collection.

Type of Review: Renewal of an information collection.

Background: As prescribed in 14 CFR parts 121 and 135, the FAA requires certificate holders to submit hazardous materials manuals and training programs as part of the FAA's certification process. Revisions of the hazardous materials manuals and training programs must also be submitted following certification. Initial certification is completed in accordance with 14 CFR part 119. Continuing certification is completed in accordance with 14 CFR parts 121 and 135. The FAA uses the certification process to determine compliance of the certificate holder's hazardous materials manual and training programs with applicable regulations, national policies, and safe operating practices. It also ensures that these documents adequately establish safe operating procedures. Additionally, 14 CFR part 145 requires certain repair stations to provide documentation showing that persons handling hazmat for transportation have been trained in accordance with 49 CFR parts 171-180. The submission of this documentation is covered in this information collection.

In the renewal, the FAA plans to revise the title of this information collection to “Hazardous Materials Program Requirements” to better reflect the information collected under this OMB Control Number.

Respondents: The FAA estimates 62 certificate holders under Part 121, 1,844 certificate holders under Part 135, and 4,989 certificate holders under Part 145.

Frequency: Information is collected on occasion. Part 121 and 135 certificate holders submit their hazardous materials manual and training program during the initial certification process. When a certificate holder revises their manual or training program, they must submit the revised manual and training program to the FAA for approval. A Part 145 repair station is required to submit documentation to the FAA certifying that their hazmat employees are trained in accordance with 49 CFR parts 171-180 to receive initial certification.

Estimated Average Burden per Response: 6.08 hours for Part 121 certificate holders, 3.58 hours for Part 135 certificate holders, and 2.16 hours for Part 145 repair stations.

Estimated Total Annual Burden: 23,282 hours for Part 121 certificate holders, 15,635 hours for Part 135 certificate holders, and 1,396 hours for Part 145 repair stations.

Issued in Washington, DC, on June 13, 2025.
Walter McBurrows, III,
Executive Director (A), FAA, Office of Hazardous Materials Safety.

[FR Doc. 2025-11160 Filed 6-16-25; 8:45 am]

BILLING CODE 4910-13-P